DEPARTMENT OF TRANSPORTATION

Federal Highway Administration

Environmental Impact Statement: Bossier, Caddo, & DeSoto Parishes, Louisiana

AGENCY: Federal Highway Administration (FHWA), DOT.

ACTION: Notice of Intent.

SUMMARY: FHWA is issuing this notice to advise the public that an Environmental Impact Statement will be prepared for a proposed Interstate highway project in Bossier, Caddo, and DeSoto Parishes, Louisiana.

FOR FURTHER INFORMATION CONTACT: William Farr, Program Operations Manager, Federal Highway Administration, 5304 Flanders Avenue, Suite A, Baton Rouge, Louisiana 70808, Telephone: (225) 767-7615, or Vincent Russo, Environmental Engineer Administrator, Louisiana Department of Transportation and Development, Post Office Box 94245, Baton Rouge, Louisiana 70804-9245, Telephone: (225) 929-9190.

SUPPLEMENTARY INFORMATION: The FHWA, in cooperation with the Louisiana Department of Transportation and Development (DOTD), will prepare an Environmental Impact Statement (EIS) on a proposal to construct a segment of the proposed Interstate Highway 69 (I-69) in Bossier, Caddo, and DeSoto Parishes, Louisiana. This proposal will provide a divided four-lane, limited access highway on new location between US Highway 171 (US 171) near the Town of Stonewall in DeSoto Parish, to Interstate Highway 20 (I-20) near the Town of Haughton in Bossier Parish, a distance of approximately 30 miles. The proposed new highway is a portion of the planned improvements to Congressionally-designated High Priority Corridor Number 18, which will link Indianapolis, Indiana to the lower Rio Grande Valley in Texas. The purpose of this proposal is to improve international and interstate trade in accordance with national and state goals and to facilitate economic development in accordance with state, regional, and local policies, plans, and surface transportation consistent with national, state, regional, and local needs and with the Congressional designation of the corridor.

The location of the proposed new highway generally follows a proposed alignment as developed in the City of Shreveport's 1992 study entitled “Interstate 69 and the Inner Loop Extension: Compatibility Report”. However, social, economic, and environmental considerations will determine the number and location of alternatives to be developed during the preparation of the EIS. The western terminus of the proposed highway will be an interchange at US 171 near the Town of Stonewall in DeSoto Parish. The eastern terminus of the proposed highway will be an interchange at I-20 near the Town of Haughton in Bossier Parish.

Alternatives under consideration include (1) the construction of a new controlled access highway, including interchanges providing access at I-20, US Highway 71, Louisiana Highway 1, Interstate Highway 49 and US 171, and (2) taking no action and using existing road network to connect the other segments of the proposed highway in the corridor. Incorporated into and studied with the various build alternatives will be design variations of grade and alignment.

Letters describing the proposed action and soliciting comments will be sent to the appropriate Federal, State, and local agencies, and to private organizations and citizens who have previously expressed or are known to have interest in this proposal. Federal and State agencies with jurisdiction by law with regards to the social, economic and environmental impact of this proposal will be requested to act as a Cooperating Agency in this matter in accordance with 40 CFR 1501.6. Numerous public involvement initiatives, including public meetings, newsletters, and advisory committee meetings will be held throughout the course of this study. Additionally, a Public Hearing will be held. Public notice will be given, in local newspapers, of the time and place of the meetings and hearing. The Draft EIS will be available for public and agency review prior to the Public Hearing. A formal scoping meeting will be held upon initiation of this project.

To ensure that the full range of issues related to this proposal are addressed and all significant issues identified, comments and suggestions are invited from all interested parties. Comments or questions concerning this proposed action and the EIS should be directed to the DOTD at the address above.

(Catalog of Federal Domestic Assistance Program Number 20.205, Highway Research, Planning and Construction. The regulations implementing Executive Order 12372 regarding intergovernmental consultation on Federal programs and activities apply to this program).
Issued on: July 10, 2000.
William A. Sussmann,
Division Administrator, FHWA.

[FR Doc. 00-18385 Filed 7-19-00; 8:45 am]

BILLING CODE 4910-22-M